DEPARTMENT OF COMMERCE

[I.D. 080204D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Vessel Monitoring System Requirements in the Western Pacific Pelagic Longline Fishery.

Form Number(s): None.

OMB Approval Number: 0648-0441.

Type of Request: Regular submission.

Burden Hours: 399.

Number of Respondents: 164.

Average Hours Per Response: 1 second.

Needs and Uses: The commercial fishing vessels active in the Hawaii-based pelagic longline fishery must allow National Marine Fisheries Service (NMFS) to install vessel monitoring system (VMS) units on their vessel when directed to do so by NMFS enforcement personnel. The VMS units automatically send periodic reports on the position of the vessel. NMFS uses the reports to monitor the vessel's location and activities while enforcing longline fishing area closures. NMFS pays for the units and messaging.

Affected Public: Business or other for-profit organizations.

Frequency: Hourly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: July 29, 2004.
Gwellnar Banks,
Management Analyst, Office of the Chief Information Officer.

[FR Doc. 04-17898 Filed 8-4-04; 8:45 am]

BILLING CODE 3510-22-S